DEPARTMENT OF HOMELAND SECURITY

[Docket No. DHS-2008-0028]

Science and Technology Directorate; Submission for Review; Information Collection Request for the DHS S&T Protected Repository for the Defense of Infrastructure Against Cyber Threats (PREDICT)

AGENCY: Science and Technology Directorate, DHS.

ACTION: 30-day Notice and request for comment.

SUMMARY: The Department of Homeland Security (DHS) invites the general public to comment on new data collection forms for the Protected Repository for the Defense of Infrastructure Against Cyber Threats (PREDICT) initiative. The PREDICT initiative facilitates the accessibility of computer and network operational data for use in cyber defense research and development through the establishment of distributed repositories of security-relevant network operations data, and the application procedures, protection policies, and review processes necessary to make this data available to the cyber defense research community. The forms will allow the PREDICT initiative to provide a central repository, accessible through a Web-based portal (<SECAUTH>) that catalogs current computer network operational data, provide secure access to multiple sources of data collected as a result of use and traffic on the Internet, and facilitate data flow among PREDICT participants for the purpose of developing new models, technologies and products that support effective threat assessment and increase cyber security capabilities. The Department is committed to improving its PREDICT initiative and invites interested persons to comment on the following forms and instructions (hereinafter “Forms Package”) for the PREDICT initiative: (1) Account Request Form (DHS Form 10029); (2) Add a New Dataset Form (DHS Form 10030); (3) Annotate Dataset Form (DHS Form 10031); (4) Request a Dataset Form (DHS Form 10032); (5) Update Host Data Form (DHS Form 10033); (6) Update Provider Data Form (DHS Form 10034); (7) Memorandum of Agreement—PREDICT (PCC) Coordinating Center and Researcher/User (DHS Form 10035); (8) Memorandum of Agreement—PCC and Data Provider (DP)(DHS Form 10036); (9) Memorandum of Agreement—PCC and Data Host (DH)(DHS Form 10037); (10) Authorization Letter for Data Host (DHS Form 10038); (11) Authorization Letter for Data Provider (DHS Form 10039); (12) Sponsorship Letter (DHS Form 10040); (13) Notice of Dataset Access/Application Expiration (DHS Form 10041); (14) Certificate of Data Destruction (DHS Form 10042).

This notice and request for comments is required by the Paperwork Reduction Act of 1995 (Pub. L. 104-13, 44 U.S.C. chapter 35).

DATES: Comments are encouraged and will be accepted until April 14, 2008.

ADDRESSES: You may submit comments, identified by docket number [DHS-2008-0028], by one of the following methods:

• Federal eRulemaking Portal: http://www.regulations.gov. Follow the instructions for submitting comments.

• E-mail: ken.rogers@dhs.gov. Include docket number [DHS-2008-0028] in the subject line of the message.

• Mail: Science and Technology Directorate, ATTN: OCIO/Kenneth D. Rogers, 245 Murray Drive, Bldg 410, Washington, DC 20528.

FOR FURTHER INFORMATION CONTACT: Kenneth D. Rogers (202) 254-6185 (this is not a toll free number).

SUPPLEMENTARY INFORMATION: This request for comment was previously published in the Federal Register on December 28, 2007, for a 60-day public comment period ending February 26, 2008. No comments were received by DHS during the 60-day comment period. The purpose of this notice is to allow an additional 30 days for public comments.

The content of PREDICT is proprietary datasets that will be used by the Research community in its efforts to build products and technologies that will better protect America's computing infrastructure.

Using a secure Web portal, accessible through https://www.predict.org/, the PREDICT Coordinating Center manages a centralized repository that identifies the datasets and their sources and location, and acts as gatekeeper for access and release of the data. All data input to the system is either keyed in by users (Data Providers) or migrated (via upload of XML files).

DHS is particularly interested in comments that:

(1) Evaluate whether the proposed collection of information is necessary for the proper performance of the functions of the agency, including whether the information will have practical utility;

(2) Evaluate the accuracy of the agency's estimate of the burden of the proposed collection of information, including the validity of the methodology and assumptions used;

(3) Suggest ways to enhance the quality, utility, and clarity of the information to be collected; and

(4) Suggest ways to minimize the burden of the data collection on those who respond, including the use of appropriate automated, electronic, mechanical, or other technological collection techniques or other forms of information technology, e.g., permitting electronic submissions of responses.

Overview of this Information Collection:

(1) Type of Information Collection: New information collection.

(2) Title of the Form/Collection: DHS S&T PREDICT Initiative Agency Form Number, if any, and the applicable component of the Department of Homeland Security sponsoring the collection: DHS S&T Protected Repository for the Defense of Infrastructure Against Cyber Threats (PREDICT) (1) Account Request Form (DHS Form 10029); (2) Add a New Dataset Form (DHS Form 10030); (3) Annotate Dataset Form (DHS Form 10031); (4) Request a Dataset Form (DHS Form 10032); (5) Update Host Data Form (DHS Form 10033); (6) Update Provider Data Form (DHS Form 10034); (7) Memorandum of Agreement—PREDICT (PCC) Coordinating Center and Researcher/User (DHS Form 10035); (8) Memorandum of Agreement—PCC and Data Provider (DP)(DHS Form 10036); (9) Memorandum of Agreement—PCC and Data Host (DH)(DHS Form 10037); (10) Authorization Letter for Data Host (DHS Form 10038); (11) Authorization Letter for Data Provider (DHS Form 10039); (12) Sponsorship Letter (DHS Form 10040); (13) Notice of Dataset Access/Application Expiration (DHS Form 10041); (14) Certificate of Data Destruction (DHS Form 10042).

(3) Affected public who will be asked or required to respond, as well as a brief abstract: Individuals or households, Business or other for-profit, Not-for-profit institutions, Federal government, and State, local, or tribal government; the data gathered will allow the PREDICT initiative to provide a central repository, accessible through a Web-based portal (https://www.predict.org/) that catalogs current computer network operational data, provide secure access to multiple sources of data collected as a result of use and traffic on the Internet, and facilitate data flow among PREDICT participants for the purpose of developing new models, technologies and products that support effective threat assessment and increase cyber security capabilities.

(4) An estimate of the total number of respondents and the amount of time estimated for an average respondent to respond:

a. Estimate of the total number of respondents: 275

b. An estimate of the time for an average respondent to respond: .54 burden hours.

Date: February 26, 2008.
Kenneth D. Rogers,
Chief Information Officer, Science and Technology Directorate.

[FR Doc. E8-5107 Filed 3-13-08; 8:45 am]

BILLING CODE 4410-10-P